ENVIRONMENTAL PROTECTION AGENCY

[EPA-HQ-ORD; FRL-9254-6]

Environmental Laboratory Advisory Board (ELAB) Meeting Dates and Agenda

AGENCY: Environmental Protection Agency (EPA).

ACTION: Notice of teleconference and face-to-face meetings.

SUMMARY: The Environmental Protection Agency's Environmental Laboratory Advisory Board (ELAB), as previously announced, holds teleconference meetings the third Wednesday of each month at 1 p.m. ET and two face-to-face meetings each calendar year. For 2011, teleconference only meetings will be February 16, 2011 at 1 p.m. ET; March 16, 2011 at 1 p.m. ET; April 20, 2011 at 1 p.m. ET; May 18, 2011 at 1 p.m. ET; June 15, 2011 at 1 p.m. ET; July 20, 2011 at 1 p.m. ET; September 21, 2011 at 1 p.m. ET; October 19, 2011 at 1 p.m. ET; November 16, 2011 at 1 p.m. ET; and December 21, 2011 at 1 p.m. ET to discuss the ideas and views presented at the previous ELAB meetings, as well as new business. Items to be discussed by ELAB over these coming meetings include: (1) Issues in continuing the expansion of national environmental accreditation; (2) ELAB support to the Agency on issues relating to measurement and monitoring for all programs; and (3) follow-up on some of ELAB's past recommendations and issues. In addition to these teleconferences, ELAB will be hosting their two face-to-face meetings on January 31, 2011 at the Hyatt Regency Savannah in Savannah, GA at 1:30 p.m. (ET) and on August 15, 2011 at the Hyatt Regency Bellevue in Bellevue, WA at 9 a.m. (PT). Teleconference lines will also be available for these meetings.

Written comments on laboratory accreditation issues and/or environmental monitoring or measurement issues are encouraged and should be sent to Ms. Lara P. Autry, Designated Federal Officer, U.S. EPA (E243-05), 109 T.W. Alexander Drive, Research Triangle Park, NC 27709, or e-mailed to autry.lara@epa.gov. Members of the public are invited to listen to the teleconference calls, and time permitting, will be allowed to comment on issues discussed during the ELAB meetings. Those persons interested in attending should call Lara P. Autry on (919) 541-5544 to obtain teleconference information. For information on access or services for individuals with disabilities or to request accommodation of a disability, please contact Lara P. Autry on the number above, preferably at least 10 days prior to the meeting, to give EPA as much time as possible to process your request.

Dated: January 3, 2011.
Kevin Teichman,
Acting EPA Science Advisor.

[FR Doc. 2011-995 Filed 1-13-11; 4:15 pm]

BILLING CODE 6560-50-P